DEPARTMENT OF ENERGY

Federal Energy Regulatory Commission

Combined Notice of Filings #2

Take notice that the Commission received the following electric rate filings:

Docket Numbers: ER14-694-004.

Applicants: Entergy Services, Inc.

Description: Tariff Amendment: EAI-ESI_Response_7-16-2015 to be effective 12/31/9998.

Filed Date: 7/16/15.

Accession Number: 20150716-5154.

Comments Due: 5 p.m. ET 8/6/15.

Docket Numbers: ER14-702-004.

Applicants: Entergy Arkansas, Inc.

Description: Tariff Amendment: EAI-ESI_Response_7-16-2015 to be effective 12/31/9998.

Filed Date: 7/16/15.

Accession Number: 20150716-5152.

Comments Due: 5 p.m. ET 8/6/15.

Docket Numbers: ER14-1332-001.

Applicants: DATC Path 15, LLC.

Description: Compliance filing: Compliance to 2181401 to be effective 5/17/2014.

Filed Date: 7/16/15.

Accession Number: 20150716-5134.

Comments Due: 5 p.m. ET 8/6/15.

Docket Numbers: ER15-1799-001.

Applicants: PJM Interconnection, L.L.C., Virginia Electric and Power Company.

Description: Tariff Amendment: Virginia Electric and Power submits revisions to Service Agreement No. 3453 to be effective 5/4/2015.

Filed Date: 7/16/15.

Accession Number: 20150716-5142.

Comments Due: 5 p.m. ET 8/6/15.

Docket Numbers: ER15-2214-000.

Applicants: PJM Interconnection, L.L.C.

Description: § 205(d) Rate Filing: Original SA Nos. 4205 and 4206 (Z2-043/AA1-072 and Z2-044 ISAs) to be effective 6/16/2015.

Filed Date: 7/16/15.

Accession Number: 20150716-5096.

Comments Due: 5 p.m. ET 8/6/15.

Docket Numbers: ER15-2215-000.

Applicants: San Diego Gas & Electric Company.

Description: § 205(d) Rate Filing: SDG&E TO4 Formula Depreciation Rate Change 2015 to be effective 1/1/2016.

Filed Date: 7/16/15.

Accession Number: 20150716-5135.

Comments Due: 5 p.m. ET 8/6/15.

Docket Numbers: ER15-2216-000.

Applicants: EONY Generation Limited.

Description: Compliance filing: MBR—EONY Generation Limited to be effective 7/17/2105.

Filed Date: 7/16/15.

Accession Number: 20150716-5138.

Comments Due: 5 p.m. ET 8/6/15.

Take notice that the Commission received the following land acquisition reports:

Docket Numbers: LA15-2-000.

Applicants: Indigo Generation LLC, Larkspur Energy LLC, Wildflower Energy LP, Mariposa Energy, LLC.

Description: Quarterly Land Acquisition Report of the DGC Companies under LA15-2.

Filed Date: 7/16/15.

Accession Number: 20150716-5104.

Comments Due: 5 p.m. ET 8/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2015.
Nathaniel J. Davis, Sr.,
Deputy Secretary.

[FR Doc. 2015-17918 Filed 7-21-15; 8:45 am]

BILLING CODE 6717-01-P